FEDERAL MINE SAFETY AND HEALTH REVIEW COMMISSION

Sunshine Act Notice

October 23, 2015.

TIME AND DATE: 10 a.m., Thursday, November 19, 2015.

PLACE: The Richard V. Backley Hearing Room, Room 511N, 1331 Pennsylvania Avenue NW., Washington, DC 20004 (enter from F Street entrance).

STATUS: Open.

MATTERS TO BE CONSIDERED: The Commission will consider and act upon the following in open session: United Steelworkers, Local No. 5114, on behalf of Miners v. Hecla Limited, Docket No. WEST 2012-466-CM. (Issues include whether the Judge erred in determining the length of the compensation period and the number of miners who were entitled to compensation under 30 U.S.C. section 821.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2015-27479 Filed 10-23-15; 4:15 pm]

BILLING CODE 6735-01-P